DEPARTMENT OF TRANSPORTATION

Federal Aviation Administration

Twelfth Joint Meeting, RTCA Special Committee 205/EUROCAE WG 71: Software Considerations in Aeronautical Systems

AGENCY: Federal Aviation Administration (FAA), DOT.

ACTION: Notice of RTCA Special Committee 205/EUROCAE WG 71: Software Considerations in Aeronautical Systems meeting.

SUMMARY: The FAA is issuing this notice to advise the public of a meeting of RTCA Special Committee 205/EUROCAE WG 71: Software Considerations in Aeronautical Systems.

DATES: The meeting will be held October 26-30, 2009, from 8:30 a.m. to 5 p.m. (variable—see daily schedule). Pre-registration Requirements: If you are planning on attending this meeting we would appreciate you providing pre-registration information.

ADDRESSES: The meeting will be held at Télécom ParisTech, 46 rue Barrault 75013 Paris, France.

FOR FURTHER INFORMATION CONTACT: (1) RTCA Secretariat, 1828 L Street, NW., Suite 805, Washington, DC 20036; telephone (202) 833-9339; fax (202) 833-9434; Web site http://www.rtca.org; (2) Hotel Front Desk: (602) 273-7778; fax (602) 275-5616;

SUPPLEMENTARY INFORMATION: Pursuant to section 10(a)(2) of the Federal Advisory Committee Act (Pub. L. 92-463, 5 U.S.C., Appendix 2), notice is hereby given for a Special Committee 205: EUROCAE WG 71: Software Considerations in Aeronautical Systems meeting.

The agenda will include:

Day 1—Monday, October 26

• 08:30 a.m.—Chair's Introductory Remarks;

• 09:00 a.m.—Review of Meeting Agenda and Agreement of Previous Minutes;

• 09:30 a.m.—Reports of Sub-Group Activity;

• 10:00 a.m.—Other Committee/Other Documents Interfacing Personnel Reports (CAST, Unmanned Aircraft Systems, Security, WG-63/SAE S-18);

• 10:45 a.m.—Sub-Group Break Out Sessions.

New Member Introduction Session

• 10:45 a.m.—All new committee members are invited to attend an introduction session to explain the operation of the committee, the various sub-groups and the topics they are dealing with and the Web site.

• 13:15 p.m.—Sub-Group Break Out Sessions;

• 15:15 p.m.—Plenary Session: Text Acceptance (for papers posted, commented on and reworked prior to Plenary).

Day 2—Tuesday, October 27

• 08:30 a.m.—Sub-Group Break Out Sessions;

• 12:30 p.m.—Milestone: IP submittals due for Wednesday Plenary;

• 13:30 p.m.—Sub-Group Break Out Sessions;

• 15:00 p.m.—Mandatory Paper Reading Session.

Day 3—Wednesday, October 28

• 08:30 a.m.—IP Comment Reply & Sub-Group Break Out Sessions (focused on finalizing any changes to papers being presented later in the morning);

• 10:30 a.m.—Plenary Text Acceptance (for papers posted, commented on and reworked prior to Plenary);

• 13:30 p.m.—Sub-Group Break Out Sessions;

• 14:45 p.m.—Break;

• 15:00 p.m.—Sub-Group Break Out Sessions.

Day 4—Thursday, October 29

• 08:30 a.m.—Sub-Group Break Out Sessions;

• 12:30 p.m.— Milestone: IP submittals due for Friday Plenary;

• 13:30 p.m.—Plenary Session;

• 15:00 p.m.—Mandatory Paper Reading Session.

Day 5—Friday, October 30

• 08:00 a.m.—IP Comment Reply & Sub-Group Break Out Sessions (focused on finalizing any changes to papers being presented during the morning);

• 10:00 a.m.—Plenary Text Approval (reworked and late posted papers—with late posted papers only being accepted if (a) the changes are very minor in nature, and (b) adequate time has been allowed for the review of the papers);

• 12:00 p.m.—SG1: SCWG Document Integration Sub-Group Report;

• 12:05 p.m.—SG2: Issue & Rationale Sub-Group Report;

• 12:10 p.m.—SG3: Tool Qualification Sub-Group Report;

• 12:15 p.m.—SG4: Model Based Design & Verification Sub-Group Report;

• 12:20 p.m.—SG5: Object Oriented Technology Sub-Group Report;

• 12:25 p.m.—SG6: Formal Methods Sub-Group Report;

• 12:30 p.m.—SG7: Special Considerations Sub-Group Report;

• 12:35 p.m.—Next Meeting Information;

• 12:40 p.m.—Any Other Business, Closing Remarks & Meeting Adjourned;

• 12:45 p.m.—Meeting Evaluation (Round Robin).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 31, 2009.
Francisco Estrada C.,
RTCA Advisory Committee.

[FR Doc. E9-21433 Filed 9-3-09; 8:45 am]

BILLING CODE 4910-13-P